DEPARTMENT OF THE TREASURY

Office of Foreign Assets Control

31 CFR Part 537

Removal of Burmese Sanctions Regulations

AGENCY: Office of Foreign Assets Control, Treasury.

ACTION: Final rule.

SUMMARY: The Department of the Treasury's Office of Foreign Assets Control (OFAC) is removing from the Code of Federal Regulations the Burmese Sanctions Regulations as a result of the termination of the national emergency on which the regulations were based.

DATES: Effective: June 16, 2017.

FOR FURTHER INFORMATION CONTACT: The Department of the Treasury's Office of Foreign Assets Control: Assistant Director for Licensing, tel.: 202/622-2480, Assistant Director for Regulatory Affairs, tel.: 202/622-4855, Assistant Director for Sanctions Compliance & Evaluation, tel.: 202/622-2490, or the Department of the Treasury's Office of the Chief Counsel (Foreign Assets Control), Office of the General Counsel, tel.: 202/622-2410.

SUPPLEMENTARY INFORMATION:

Electronic and Facsimile Availability

This document and additional information concerning OFAC are available from OFAC's Web site (www.treasury.gov/ofac).

Background

On May 20, 1997, the President issued Executive Order 13047, “Prohibiting New Investment in Burma” (E.O. 13047), in which the President declared a national emergency to deal with the unusual and extraordinary threat to the national security and foreign policy of the United States posed by the actions and policies of the Government of Burma, in response to a deepening pattern of severe repression by the State Law and Order Restoration Council, the then-governing regime in Burma. In E.O. 13047, the President also determined and certified that, for purposes of section 570(b) of the Foreign Operations, Export Financing, and Related Programs Appropriations Act, 1997 (Public Law 104-208), the Government of Burma had committed large-scale repression of the democratic opposition in Burma after September 30, 1996, and E.O. 13047 imposed a prohibition on new investment in Burma. The scope of the national emergency with respect to Burma was modified and additional steps were taken to respond to the threat posed by the actions and policies of the Government of Burma in Executive Order 13310 of July 28, 2003 (E.O. 13310); Executive Order 13448 of October 18, 2007 (E.O. 13448); Executive Order 13464 of April 30, 2008 (E.O. 13464); Executive Order 13619 of July 11, 2012 (E.O. 13619); and Executive Order 13651 of August 6, 2013 (E.O. 13651). Further actions also were taken under Burma sanctions statutes, namely the Burmese Freedom and Democracy Act of 2003 (Public Law 108-61) and the Tom Lantos Block Burmese JADE (Junta's Anti-Democratic Efforts) Act of 2008 (Public Law 110-286) (JADE Act).

On May 21, 1998, OFAC issued the Burmese Sanctions Regulations, 31 CFR part 537 (the “Regulations”), as a final rule to implement E.O. 13047. The Regulations were amended and reissued in their entirety in 2005 to implement E.O. 13310, and again in 2014 to implement E.O. 13448, E.O.13464, E.O. 13619, and E.O. 13651. OFAC also has amended the Regulations on various occasions to add general licenses and make other updates, as well as issued and made available on its Web site several general licenses.

On October 7, 2016, the President issued Executive Order 13742, “Termination of Emergency With Respect to the Actions and Policies of the Government of Burma” (E.O. 13742). In E.O. 13742, the President found that the situation that gave rise to the declaration of a national emergency in E.O. 13047, with respect to the actions and policies of the Government of Burma, had been significantly altered by Burma's substantial advances to promote democracy, including historic elections in November 2015 that resulted in the former opposition party, the National League for Democracy, winning a majority of seats in the national parliament and the formation of a democratically elected, civilian-led government; the release of many political prisoners; and greater enjoyment of human rights and fundamental freedoms, including freedom of expression and freedom of association and peaceful assembly. Accordingly, the President terminated the national emergency declared in E.O. 13047, and revoked that order, E.O. 13310, E.O. 13448, E.O. 13464, E.O. 13619, and E.O. 13651.

As a result, OFAC is removing the Regulations from the Code of Federal Regulations. Pursuant to section 202 of the National Emergencies Act (50 U.S.C. 1622) and section 1 of E.O. 13742, termination of the national emergency declared in E.O. 13047, as modified in scope by E.O. 13448 and E.O. 13619, shall not affect any action taken or proceeding pending not fully concluded or determined as of 1:00 p.m. eastern daylight time on October 7, 2016 (the effective date of E.O. 13742), any action or proceeding based on any act committed prior to the effective date, or any rights or duties that matured or penalties that were incurred prior to the effective date.

Public Participation

Because the Regulations involve a foreign affairs function, the provisions of Executive Order 12866 and the Administrative Procedure Act (5 U.S.C. 553) requiring notice of proposed rulemaking, opportunity for public participation, and delay in effective date and the provisions of Executive Order 13771 are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 537

Administrative practice and procedure, Banks, Banking, Blocking of assets, Burma, Credit, Exportation, Foreign Trade, Importation, Imports, Investments, Jadeite, Loans, New investment, Penalties, Reporting and recordkeeping requirements, Rubies, Securities, Services, Specially Designated Nationals.

For the reasons set forth in the preamble, and under the authority of 3 U.S.C. 301; 50 U.S.C. 1601-1651; Pub. L. 110-286, 122 Stat. 2632; E.O. 13047, 62 FR 28301, 3 CFR, 1997 Comp., p. 202; E.O. 13310, 68 FR 44853, 3 CFR, 2003 Comp., p. 241; E.O. 13448, 72 FR 60223, 3 CFR, 2007 Comp., p. 304; E.O. 13464, 73 FR 24491, 3 CFR, 2008 Comp., p. 189; E.O. 13619, 77 FR 41243, 3 CFR, 2012 Comp., p. 279; E.O. 13651, 78 FR 48793, 3 CFR, 2014 Comp., p. 324; and E.O. 13742, 81 FR 70593 (October 12, 2016), OFAC amends 31 CFR chapter V as follows:

PART 537—[REMOVED]

1. Remove part 537.

Dated: June 13, 2017.
John E. Smith,
Director, Office of Foreign Assets Control.

[FR Doc. 2017-12557 Filed 6-15-17; 8:45 am]

BILLING CODE 4810-AL-P